DEPARTMENT OF COMMERCE

International Trade Administration

[A-570-051]

Certain Hardwood Plywood Products From the People's Republic of China: Postponement of Final Determination of Sales at Less Than Fair Value Investigation

AGENCY: Enforcement and Compliance, International Trade Administration, Department of Commerce.

SUMMARY: The Department of Commerce (the Department) is postponing the deadline for issuing the final determination in the less-than-fair-value (LTFV) investigation of certain hardwood plywood products (hardwood plywood) from the People's Republic of China (PRC) until November 6, 2017, and is extending the provisional measures from a four-month period to a period of not more than six months.

DATES: Effective June 30, 2017.

FOR FURTHER INFORMATION CONTACT: Ryan Mullen or Amanda Brings, AD/CVD Operations, Office V, Enforcement and Compliance, International Trade Administration, U.S. Department of Commerce, 1401 Constitution Avenue NW., Washington, DC 20230; telephone: (202) 482-5260 or (202) 482-3927, respectively.

SUPPLEMENTARY INFORMATION:

Background

On December 8, 2016, the Department of Commerce (the Department) initiated a LTFV investigation of imports of hardwood plywood from the PRC.¹ The period of investigation is April 1, 2016, through September 30, 2016. On June 23, 2017, the Department published its Preliminary Determination in this LTFV investigation of hardwood plywood from the PRC.²

¹ See Certain Hardwood Plywood Products From the People's Republic of China: Initiation of Less-Than-Fair-Value Investigation, 81 FR 91125 (December 16, 2016).

² See Certain Hardwood Plywood Products from the People's Republic of China: Preliminary Affirmative Determination of Sales at Less Than Fair Value, Preliminary Affirmative Determination of Critical Circumstances, in Part, 82 FR 28629 (June 23, 2017) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On June 14, 2017, Linyi Chengen Import And Export Co., Ltd. and Shandong Dongfang Bayley Wood Co., Ltd., the mandatory respondents in this investigation, requested that the Department fully extend the deadline for the final determination, and extend the application of the provisional measures from a four-month period to a period of not more than six months.³

³ See Letter from Linyi Chengen Import And Export Co., Ltd. and Shandong Dongfang Bayley Wood Co., Ltd., “Hardwood Plywood Products from the People's Republic of China: Request for Extension of Final Determination,” dated June 14, 2017.

In accordance with section 735(a)(2)(A) of the Act and 19 CFR 351.210(b)(2)(ii), because: (1) The preliminary determination was affirmative; (2) the request was made by the exporters and producers who account for a significant proportion of exports of the subject merchandise; and (3) no compelling reasons for denial exist, the Department is postponing the final determination until no later than 135 days after the date of the publication of the Preliminary Determination, and extending the provisional measures from a four-month period to a period of not more than six months. Accordingly, the Department will issue its final determination no later than November 6, 2017.⁴

⁴ Postponing the final determination to 135 days after the publication of the Preliminary Determination would place the deadline on Sunday, November 5, 2017. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to 19 CFR 351.210(g).

Dated: June 26, 2017.
Ronald K. Lorentzen,
Acting Assistant Secretary for Enforcement and Compliance.

[FR Doc. 2017-13792 Filed 6-29-17; 8:45 am]

BILLING CODE 3510-DS-P